DEPARTMENT OF HEALTH AND HUMAN SERVICES

Administration for Children and Families

Proposed Information Collection Activity; Intergovernmental Reference Guide (IRG) (OMB No.: 0970-0209)

AGENCY: Office of Child Support Enforcement, Administration for Children and Families, HHS.

ACTION: Request for public comment.

SUMMARY: The Administration for Children and Families (ACF), Office of Child Support Enforcement (OCSE), is requesting the Office of Management and Budget (OMB) to approve the Intergovernmental Reference Guide (IRG), with content revisions, for an additional three years. The IRG contains state and tribal child support information that assists child support enforcement (CSE) agencies in the administration of their respective programs. The current OMB approval expires on January 31, 2022.

DATES: Comments due within 60 days of publication. In compliance with the requirements of the Paperwork Reduction Act of 1995, the ACF is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation, 330 C Street SW, Washington, DC 20201, Attn: ACF Reports Clearance Officer. All requests, emailed or written, should be identified by the title of the information collection.

SUPPLEMENTARY INFORMATION: Description: The IRG is a centralized and automated repository of state and tribal profiles that contains high-level descriptions of each CSE program. These profiles provide state, tribal, and foreign country CSE agencies with an effective and efficient method for updating and accessing information needed to process intergovernmental child support cases. Proposed revisions to the state profile include content changes and organizational updates. Proposed revisions to the tribal profile are only organizational, no content changes are proposed.

Respondents: State and Tribal Child Support Enforcement Agencies.

Annual Burden Estimates
Information collection instrument | Total number of annual respondents | Number of annual responses per respondent | Average annual burden hour per response | Annual burden hours
IRG: State Profile Guide (states and territories) | 54 | 18 | 0.3 | 292
IRG: Tribal Profile Guide | 62 | 18 | 0.3 | 335

Estimated Total Annual Burden Hours: 627.

Comments: The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Consideration will be given to comments and suggestions submitted within 60 days of this publication.

Authority: 42 U.S.C. 652(a)(7); 42 U.S.C. 666(f); 45 CFR 301.1; 45 CFR 303.7; and 45 CFR 309.120.

Mary B. Jones,
ACF/OPRE Certifying Officer.

[FR Doc. 2021-16244 Filed 7-29-21; 8:45 am]

BILLING CODE 4184-41-P